DEPARTMENT OF COMMERCE

National Oceanic and Atmospheric Administration

Agency Information Collection Activities; Submission to the Office of Management and Budget (OMB) for Review and Approval; Comment Request; Coastal and Estuarine Land Conservation Planning, Protection or Restoration

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 10, 2021 during a 60-day comment period. This notice allows for an additional 30 days for public comments.

Agency: National Oceanic and Atmospheric Administration (NOAA).

Title: Coastal and Estuarine Land Conservation Planning, Protection or Restoration.

OMB Control Number: 0648-0459.

Form Number(s): None.

Type of Request: Regular submission (extension of a current information collection).

Number of Respondents: 50.

Average Hours Per Response: CELCP Plans, 120 hours to develop, 35 hours to revise or update; project application and checklist, 20 hours; final grant application, 3.5 hours; semi-annual and annual reporting, 1.5 hours each.

Total Annual Burden Hours: 1,455.

Needs and Uses: NOAA's Office for Coastal Management requests the extension of a currently approved information collection. NOAA has, or is given, authority under the Coastal Zone Management Act (CZMA), annual appropriations or other authorities, to issue funds to coastal states, localities or other recipients for planning, conservation, acquisition, protection, restoration, or construction projects. The required information enables NOAA to implement the Coastal and Estuarine Land Conservation Program (CZMA Section 307A), under its current or future authorization, and facilitate the review of similar projects under different, but related, authorities, including the National Estuarine Research Reserve System (CZMA Section 315) Land Acquisition and Construction program, the Coastal Zone Management Program's low-cost acquisition and construction program (CZMA Section 306A), or the Fish and Wildlife Coordination Act.

This collection covers the development of state coastal land conservation plans, and collection of information specifically needed for applying for and carrying out land acquisition, restoration and construction projects, such as: Appraisals, property surveys and site plans, legal documentation such as deeds, easements and/or plats, and information needed for environmental compliance reviews. Such information is collected from project applicants or sub-recipients, which are typically state or local government agencies, but may also include nongovernmental or tribal organizations.

The information will be used in evaluating project proposals, reviewing the location and impact of proposed activities, documenting compliance with the National Environmental Policy Act and other applicable statutes, and conducting due diligence on market value, title encumbrances, property boundaries, proper recording of legal instruments. No changes are proposed to the collection.

Affected Public: Primary respondents are State, Local, or Tribal government.

Frequency: Information is collected once every 5 years for CELCP plans, one time each year for project proposals, final grant applications and due diligence materials for selected projects, two times per year for progress reports.

Respondent's Obligation: Required to Obtain or Retain Benefits.

Legal Authority: Coastal Zone Management Act (16 U.S.C. 1451, et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0459.

Sheleen Dumas,
Department PRA Clearance Officer, Office of the Chief Information Officer, Commerce Department.

[FR Doc. 2022-03482 Filed 2-16-22; 8:45 am]

BILLING CODE 3510-NK-P